DEPARTMENT OF THE INTERIOR

Bureau of Land Management

[NM-010-1610-DN]

Notice of Intent To Prepare a Resource Management Plan Revision for the Rio Puerco Field Office, New Mexico and Associated Environmental Impact Statement

AGENCY: Bureau of Land Management, Interior.

ACTION: Notice of intent.

SUMMARY: The Bureau of Land Management (BLM) Rio Puerco Field Office, Albuquerque, New Mexico, intends to prepare a Resource Management Plan Revision for the Rio Puerco Field Office with an associated Environmental Impact Statement, and by this notice is announcing public scoping meetings. The Resource Management Plan Revision will replace the existing Rio Puerco Resource Management Plan as currently maintained and amended.

DATES: The BLM will announce public scoping meetings to identify relevant issues through local news media, newsletters, and the BLM Web site, www.blm.gov/nm, at least 15 days prior to the first meeting. We will provide formal opportunities for public participation upon publication of the Draft Resource Management Plan/Environmental Impact Statement.

ADDRESSES: You may submit comments by any of the following methods:

• Web Site: http://www.blm.gov/nm.

• E-mail: Joe_Blackmon@blm.gov.

• Fax: 505-761-8911.

• Mail: RP RMP, Rio Puerco Field Office, 435 Montaño RD, NE., Albuquerque, NM 87107.

Documents pertinent to this proposal may be examined at the Rio Puerco Field Office, 435 Montaño RD, NE., Albuquerque, New Mexico.

FOR FURTHER INFORMATION CONTACT: To have your name added to our mailing list and/or for general information, contact Joe Blackmon, Telephone 505-761-8918; e-mail Joe_Blackmon@blm.gov or Sabrina Flores, Telephone 505-761-8794; e-mail Sabrina_Flores@blm.gov.

SUPPLEMENTARY INFORMATION: This document provides notice that the BLM Rio Puerco Field Office, Albuquerque, New Mexico, intends to prepare a Resource Management Plan Revision with an associated Environmental Impact Statement (RMPR/EIS) and announces public scoping meetings.

The planning area is located in Bernalillo, Cibola, McKinley, Sandoval, Torrance, and Valencia Counties, New Mexico. This planning activity encompasses approximately 997,000 acres of public land. The plan will fulfill the needs and obligations set forth by the National Environmental Policy Act (NEPA), the Federal Land Policy and Management Act (FLPMA), and BLM management policies. The BLM will seek to work collaboratively with interested parties to identify the management decisions that are best suited to local, regional, and national needs and concerns.

The purpose of the public scoping process is to determine relevant issues that will influence the scope of the environmental analysis and EIS alternatives. These issues also guide the planning process. You may submit comments on issues and planning criteria in writing to the BLM at any public scoping meeting, or you may submit them to the BLM using one of the methods listed in the ADDRESSES section above. To be most helpful, you should submit formal scoping comments within 30 days after the last public meeting. Before including your address, phone number, email address, or other personal identifying information in your comment, you should be aware that your entire comment—including your personal identifying information—may be made publicly available at any time. While you can ask us in your comment to withhold your personal identifying information from public review, we cannot guarantee that we will be able to do so. The minutes and list of attendees for each scoping meeting will be available to the public and open for 30 days after the meeting to any participant who wishes to clarify the views he or she expressed.

Preliminary issues and management concerns have been identified by BLM personnel, other agencies, and in meetings with individuals and user groups. They represent the BLM's knowledge to date regarding the existing issues and concerns with current land management. The major issues that will be addressed in this planning effort include: Land Tenure Adjustment; Mineral and Energy Development; Recreation and Visitor Services; Visual Resources Management; Special Area Designations; Travel and Trails Management; and Public Land-Urban Interface.

After the public comments as to what issues the plan should address are gathered, they will be placed in one of three categories:

1. Issues to be resolved in the plan;

2. Issues to be resolved through policy or administrative action; or

3. Issues beyond the scope of this plan.

The BLM will provide an explanation in the plan as to why issues were placed in category two or three. In addition to these major issues, a number of management questions and concerns will be addressed in the plan. The public is encouraged to help identify these questions and concerns during the scoping phase.

Preliminary planning criteria are:

• The RMPR will be in compliance with FLPMA, NEPA, and all other applicable laws, regulations, and policies.

• Land use decisions in the RMPR will only apply to surface and subsurface estate managed by the BLM.

• For program-specific guidance for decisions at the land use planning level, the process will follow the BLM's Land Use Planning Handbook, H-1601-1.

• Broad-based public participation and collaboration will be an integral part of the planning process.

• The BLM will strive to make decisions in the plan compatible with the existing plans and policies of adjacent local, state, and federal agencies and local American Indian tribes, as long as the decisions are consistent with the purposes, policies, and programs of federal law and regulations applicable to public lands.

• The BLM recognizes the state's responsibility and authority to manage wildlife while the BLM manages habitat.

• The BLM will consult with the New Mexico Department of Game and Fish.

• The RMPR will recognize valid existing rights.

• The RMPR will incorporate, where applicable, management decisions brought forward from existing planning documents.

• The BLM will work cooperatively and collaboratively with cooperating agencies and all other interested groups, agencies, and individuals.

• The BLM and cooperating agencies will jointly develop alternatives for resolution of resource management issues and management concerns.

• The planning process will incorporate the New Mexico Standards for Public Land Health and Guidelines for Livestock Grazing Management. Changes in grazing management will only be considered in Unit 5.

• Areas with special or unique resource values will be evaluated for potential administrative designations, including Areas of Critical Environmental Concern, or other appropriate designations.

• Any free flowing river and its associated land corridor found to be eligible for inclusion in the National Wild and Scenic River System (NWSRS) will be addressed in the RMPR by developing alternatives for its suitability for inclusion in the NWSRS and interim protective management of its outstandingly remarkable values.

• Wilderness Study Areas will continue to be managed under the BLM's Interim Management Policy for Lands under Wilderness Review (IMP) until Congress either designates all or portions of the WSA as wilderness or releases the lands from further wilderness consideration. The BLM no longer designates additional WSAs through the RMP process, or manages any lands other than existing WSAs in accordance with the Wilderness IMP. Areas with wilderness characteristics, however, will be considered in the RMP as described in Appendix C of the Land Use Planning Handbook.

• Forest management strategies will be consistent with the Healthy Forests Restoration Act.

• Fire management strategies will be consistent with the Albuquerque District Fire Management Plan (2004 or as it may subsequently be amended).

• GIS and metadata information will meet Federal Geographic Data Committee (FGDC) standards, as required by Executive Order 12906. All other applicable BLM data standards will also be followed.

• The planning process will provide for ongoing consultation with American Indian tribal governments and strategies for protecting recognized traditional uses.

• Planning and management direction will focus on the relative values of resources and not the combination of uses that will give the greatest economic return or economic output.

• Where practicable and timely for the planning effort, the best available scientific information, research, and new technologies will be used.

• The Economic Profile System (EPS) will be used as one source of demographic and economic data for the planning process. EPS data will provide baseline data and contribute to estimates of existing and projected social and economic conditions.

The BLM will use an interdisciplinary approach to develop the plan in order to consider the variety of resource issues and concerns identified. Specialists with expertise in the following disciplines will be involved in the planning process: air quality, archaeology and cultural resources, cave and karst resources, energy resources, facilities development, forestry, hydrology, lands and realty, minerals and geology, outdoor recreation, paleontology, rangeland management, sociology and economics, soils, special status species, visual resources management, wildland fire ecology, wilderness resources, wildlife and fisheries.

Linda S.C. Rundell,
New Mexico State Director.

[FR Doc. E8-3943 Filed 2-28-08; 8:45 am]

BILLING CODE 4310-AG-P